DEPARTMENT OF ENERGY

Federal Energy Regulatory Commission

[Project No. 15010-000]

Renewable Energy Aggregators; Notice of Preliminary Permit Application Accepted for Filing and Soliciting Comments, Motions To Intervene, and Competing Applications

On October 11, 2019, Renewable Energy Aggregators, Inc. filed an application for a preliminary permit, pursuant to section 4(f) of the Federal Power Act (FPA), proposing to study the feasibility of the Casa Grande Pumped Storage Project (Casa Grande Project or project) to be located in the city of Casa Grande, in Pinal County, Arizona. The sole purpose of a preliminary permit, if issued, is to grant the permit holder priority to file a license application during the permit term. A preliminary permit does not authorize the permit holder to perform any land-disturbing activities or otherwise enter upon lands or waters owned by others without the owners' express permission.

The proposed project would consist of the following: (1) A newly constructed upper reservoir with an earthen dam and a surface area of 300 acres with a storage capacity of 7,500 acre-feet of water; (2) a newly constructed roller compacted concrete lower reservoir of 485 acres with a storage capacity of approximately 9,500 acre-feet; (3) two 3,241-foot-long, 19-foot-diameter penstocks; (4) a powerhouse with dimensions of 750 feet long by 175 feet high by 70 feet wide containing as many as four ternary style pump/generating units; (5) two 3,000-foot-long, 21-foot-diameter tailrace tunnels; and (6) a connection to an existing 137 kV transmission circuit within the project boundary. The estimated annual generation of the Casa Grande Project would be 864,000 megawatt-hours.

Applicant Contact: Mr. Adam Rousselle, Renewable Energy Aggregators, 2113 Middle Street, Suite 201, Sullivan's Island, South Carolina 29482; phone: (267) 254-6107.

FERC Contact: Rebecca Kipp; phone: (202) 502-8846.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15010-000.

More information about this project, including a copy of the application, can be viewed or printed on the “eLibrary” link of Commission's website at http://www.ferc.gov/docs-filing/elibrary.asp. Enter the docket number (P-15010) in the docket number field to access the document. For assistance, contact FERC Online Support.

Dated: June 10, 2020.
Nathaniel J. Davis, Sr.,
Deputy Secretary.

[FR Doc. 2020-12927 Filed 6-15-20; 8:45 am]

BILLING CODE 6717-01-P